DEPARTMENT OF THE INTERIOR

Fish and Wildlife Service

[FWS-R5-ES-2010-N268; 50120 1113 0000 D2]

Endangered and Threatened Wildlife and Plants; Initiation of 5-Year Reviews of Nine Species: Purple Bean, Clubshell, Roanoke Logperch, Swamp Pink, Northern Riffleshell, Flat-spired Three-toothed Land Snail, Puritan Tiger Beetle, Dwarf Wedgemussel, and Bog Turtle

AGENCY: Fish and Wildlife Service, Interior.

ACTION: Notice of initiation of review/reviews; request for information.

SUMMARY: We, the U.S. Fish and Wildlife Service, are initiating 5-year status reviews under the Endangered Species Act of 1973, as amended (Act), of nine species. We conduct these reviews to ensure that our classification of each species on the Lists of Endangered and Threatened Wildlife and Plants as threatened or endangered is accurate. A 5-year review assesses the best scientific and commercial data available at the time of the review. We are requesting any information that has become available since our original listing of each of these species. Based on review results, we will determine whether we should change the listing status of any of these species.

DATES: To ensure consideration, please send your written information by August 8, 2011.

ADDRESSES: For how and where to send information, see “VIII., Contacts” near end of SUPPLEMENTARY INFORMATION section.

FOR FURTHER INFORMATION CONTACT: Mary Parkin, by U.S. mail at U.S. Fish and Wildlife Service, Northeast Region, 300 Westgate Center Drive, Hadley, Massachusetts 01035; by telephone at 617-417-3331; or by e-mail at mary_parkin@fws.gov.

SUPPLEMENTARY INFORMATION:

I. Why do we conduct 5-year reviews?

Under the Act (16 U.S.C. 1531 et seq.), we maintain Lists of Endangered and Threatened Wildlife and Plants (which we collectively refer to as the List) in the Code of Federal Regulations (CFR) at 50 CFR 17.11 (for animals) and 17.12 (for plants). Section 4(c)(2)(A) of the Act requires us to review each listed species' status at least once every 5 years. Then, under section 4(c)(2)(B), we determine whether to remove any species from the List (delist), to reclassify it from endangered to threatened, or to reclassify it from threatened to endangered. Any change in Federal classification requires a separate rulemaking process.

In classifying, we use the following definitions, from 50 CFR 424.02:

(A) Species includes any species or subspecies of fish, wildlife, or plant, and any distinct population segment of any species of vertebrate, that interbreeds when mature;

(B) Endangered species means any species that is in danger of extinction throughout all or a significant portion of its range; and

(C) Threatened species means any species that is likely to become an endangered species within the foreseeable future throughout all or a significant portion of its range.

We must support delisting by the best scientific and commercial data available, and only consider delisting if data substantiates that the species is neither endangered nor threatened for one or more of the following reasons (50 CFR 424.11(d)):

(A) The species is considered extinct;

(B) The species is considered to be recovered; or

(C) The original data available when the species was listed, or the interpretation of data, were in error.

Our regulations at 50 CFR 424.21 require that we publish a notice in the Federal Register announcing the species we are reviewing.

II. What species are under review?

This notice announces our active 5-year status [reviews] of the species in Table 1.

Table 1. Current Listing Status of Species under 5-Year Status Review.
Common name | Scientific name | Status | Where listed | Final listing rule publication date and citation
ANIMALS
Bean, purple | Villosa perpurpurea | Endangered | U.S.A. (TN, VA) | January 10, 1997 (62 FR 1647).
Beetle, Puritan tiger | Cicindela puritana | Threatened | U.S.A. (CT, MD, MA) | August 7, 1990 (55 FR 32088).
Clubshell | Pleurobema clava | Endangered | U.S.A. (AL, IL, IN, KY, MI, OH. PA, TN, WV) | January 22, 1993 (58 FR 5638).
Logperch, Roanoke | Percina rex | Endangered | U.S.A. (VA) | August 18, 1989 (54 FR 34468).
Riffleshell, northern | Epioblasma torulosa rangiana | Endangered | U.S.A. (IN, KY, MI, OH, PA, WV) | January 22, 1993 (58 FR 5638).
Snail, flat-spired three-toothed | Triodopsis platysayoides | Threatened | U.S.A. (WV) | July 3, 1978 (43 FR 28932).
Turtle, bog | Clemmys muhlenbergii | Threatened | U.S.A. (CT, DE, MD, MA, NJ, NY, PA) | November 4, 1997 (62 FR 59605).
Wedgemussel, dwarf | Alasmidonta heterodon | Endangered | U.S.A. (CT, MD, MA, NH, NJ, NY, NC, PA, VT, VA) | March 14, 1990 (55 FR 9447).
PLANTS
Swamp pink | Helonias bullata | Threatened | U.S.A. (DE, GA, MD, NJ, NC, SC, VA) | September 9, 1988 (53 FR 35076).

III. What Do We Consider in Our Review?

We consider all new information available at the time we conduct a 5-year status review. We consider the best scientific and commercial data that has become available since our current listing determination or most recent status review, such as:

(A) Species biology, including but not limited to population trends, distribution, abundance, demographics, and genetics;

(B) Habitat conditions, including but not limited to amount, distribution, and suitability;

(C) Conservation measures that have been implemented that benefit the species;

(D) Threat status and trends (see five factors under heading “How Do We Determine Whether a Species Is Endangered or Threatened?”); and

(E) Other new information, data, or corrections, including but not limited to taxonomic or nomenclatural changes, identification of erroneous information contained in the List, and improved analytical methods.

We specifically request data from any systematic surveys, as well as any studies or analysis of data that may show any of the following:

(A) Population size or trends;

(B) Species biology or ecology;

(C) The effects of current land management on population distribution and abundance;

(D) The current condition of habitat;

(E) Recent conservation measures that have been implemented to benefit the species;

(F) Current distribution of populations;

(G) Evaluation of threats faced by the species in relation to the five listing factors (as defined below and in section 4(a)(1) of the Act); or

(H) The species' listed status as judged against the definition of threatened or endangered.

IV. How do we determine whether a species is endangered or threatened?

Section 4(a)(1) of the Act requires that we determine whether a species is endangered or threatened based on one or more of the five following factors:

(A) The present or threatened destruction, modification, or curtailment of its habitat or range;

(B) Overutilization for commercial, recreational, scientific, or educational purposes;

(C) Disease or predation;

(D) The inadequacy of existing regulatory mechanisms; or

(E) Other natural or manmade factors affecting its continued existence.

Under section 4(b)(1) of the Act, we must base our assessment of these factors solely on the best scientific and commercial data available.

V. What could happen as a result of our review?

For each species under review, if we find new information that indicates a change in classification may be warranted, we may propose a new rule that could do one of the following:

(A) Reclassify the species from threatened to endangered (uplist);

(B) Reclassify the species from endangered to threatened (downlist); or

(C) Remove the species from the List (delist).

If we determine that a change in classification is not warranted, then the species remains on the List under its current status.

VI. Request for new information

To ensure that a 5-year review is complete and based on the best available scientific and commercial information, we request new information from all sources. See “What Information Do We Consider in Our Review?” for specific criteria. If you submit information, support it with documentation such as maps, bibliographic references, methods used to gather and analyze the data, and/or copies of any pertinent publications, reports, or letters by knowledgeable sources.

Submit your comments and materials to the appropriate Fish and Wildlife Office listed under “VIII., Contacts.”

VII. Public Availability of Comments

Before including your address, phone number, e-mail address, or other personal identifying information in your comment, you should be aware that your entire comment—including your personal identifying information—may be made publicly available at any time. While you can ask us in your comment to withhold your personal identifying information from public review, we cannot guarantee that we will be able to do so. Comments and materials received will be available for public inspection, by appointment, during normal business hours at the offices where the comments are submitted.

VIII. Contacts

Send your comments and information on the following species, as well as requests for information, to the corresponding contacts/addresses. You may view information we receive in response to this notice, as well as other documentation in our files, at the following locations by appointment, during normal business hours.

Species | Contact person, phone, e-mail | Contact address
Purple bean | Shane Hanlon, (276) 623-1233 ext. 25; e-mail shane_hanlon@fws.gov | U.S. Fish and Wildlife Service, Southwestern Virginia Field Office, 330 Cummings Street, Abingdon, VA 24210.
Puritan tiger beetle | Andy Moser, (410) 573-4537; e-mail andy_moser@fws.gov | U.S. Fish and Wildlife Service, Chesapeake Bay Field Office, 177 Admiral Cochrane Drive, Annapolis, MD 21401.
Clubshell | Robert M. Anderson, (814) 234-4090 ext. 228; e-mail robert_m_anderson@fws.gov | U.S. Fish and Wildlife Service, Pennsylvania Field Office, 315 South Allen Street, Suite 322, State College, PA 16801.
Roanoke logperch | Tylan Dean, (804) 693-6694 ext. 104; e-mail tylan_dean@fws.gov | U.S. Fish & Wildlife Service, Virginia Field Office, 6669 Short Lane, Gloucester, VA 23061.
Northern riffleshell | Robert M. Anderson, (814) 234-4090 ext. 228; e-mail robert_m_anderson@fws.gov | U.S. Fish and Wildlife Service, Pennsylvania Field Office, 315 South Allen Street, Suite 322, State College, PA 16801.
Flat-spired three-toothed snail | Barbara Douglas, (304) 636-6586 ext. 19; e-mail barbara_douglas@fws.gov | U.S. Fish and Wildlife Service, West Virginia Field Office, 694 Beverly Pike, Elkins, WV 26241.
Bog turtle | Alison Whitlock, (413) 253-8536; e-mail alison_whitlock@fws.gov | U.S. Fish and Wildlife Service, Northeast Regional Office, 300 Westgate Center Drive, Hadley, MA 01035.
Dwarf wedgemussel | Susi von Oettingen, (603) 223-2541 ext. 22; e-mail Susi_vonOettingen@fws.gov | U.S. Fish and Wildlife Service, New England Field Office, 70 Commercial Street, Suite 300, Concord, NH 03301.
Swamp pink | Wendy Walsh, (609) 383-3938 ext. 48; e-mail wendy_walsh@fws.gov | U.S. Fish and Wildlife Service, New Jersey Field Office, 927 North Main Street, Building D, Pleasantville, NJ 08232.

IX. Authority

We publish this notice under the authority of the Endangered Species Act of 1973, as amended (16 U.S.C. 1531 et seq.).

Dated: December 30, 2010.
Anthony D. Léger,
Acting Regional Director, Northeast Region, U.S. Fish and Wildlife Service.
Editorial Note: Received in the Office of the Federal Register June 3, 2011.

[FR Doc. 2011-14212 Filed 6-7-11; 8:45 am]

BILLING CODE 4310-55-P